DEPARTMENT OF ENERGY

Federal Energy Regulatory Commission

[Project No. 77-285]

Pacific Gas and Electric Company; Notice Soliciting Applications

On April 6, 2017, Pacific Gas and Electric Company (PG&E), licensee for the Potter Valley Project No. 77, filed a pre-application document (PAD) and notice of its intent (NOI) to file an application for a new license for the 9.4-megawatt project pursuant to section 15(b)(1) of the Federal Power Act (FPA). On January 25, 2019, PG&E filed notice of the withdrawal of its NOI and PAD, indicating it is no longer seeking a new license for the project.

The project is located on the Eel and East Fork Russian Rivers in Lake and Mendocino Counties, California, about 15 miles northeast of the city of Ukiah. Project features include Lake Pillsbury, a 2,300-acre storage reservoir impounded by Scott Dam; 106-acre Van Arsdale Reservoir, impounded by the Cape Horn Diversion Dam; and a tunnel and penstock across a natural divide to the project's powerhouse located in the headwaters of the Russian River Basin. PG&E estimates the average annual generation of the project to be 19,900 megawatt-hours.

Pursuant to Rule 216(b) of the Commission's Rules of Practice and Procedure,¹ a withdrawal of a pleading is effective at the end of 15 days from the date of filing the notice of withdrawal. No motion in opposition to the notice of withdrawal has been filed, and the Commission has taken no action to disallow the withdrawal; thus, the withdrawal became effective on February 11, 2019.²

¹ 18 CFR 385.216(b) (2018).

² The Commission's Rules of Practice and Procedure provide that if the last day of any time period falls on a Saturday, Sunday, holiday, or other day when the Commission is closed for business, the period does not end until the close of business on the next business day. 18 CFR 385.2007(a)(2) (2018). Because the 15-day time period fell on a Saturday (February 9, 2019), the period was extended until the close of business on Monday, February 11, 2019.

Any party interested in filing a license application for a new license for a project must first file a NOI and PAD.³ Although the Integrated Licensing Process (ILP) is the default pre-filing process, section 5.3(b) of the Commission's regulations allows a potential license applicant to request to use alternative licensing procedures when it files its NOI.⁴ A potential applicant may also include a proposal to complete the ILP pre-filing process that PG&E has already begun. As part of the pre-filing process, the Commission issued a Study Plan Determination for the project on February 15, 2018, approving 21 study plans.

³ 18 CFR 5.5 (2018).

⁴ 18 CFR 5.3(b) (2018).

This notice sets a deadline of 120 days from the date of this notice for interested applicants, other than the existing licensee, to file NOIs, PADs, and requests to complete the pre-filing stages of the licensing process as discussed above.

In the event that no other applicant files an application for a license by April 14, 2020, the current licensee will be provided with written notice that no timely application for the project has been filed.⁵ Within 90 days of such written notice, the current licensee must file a schedule for the filing of a surrender application for the project.⁶

⁵ 18 CFR 16.26(a) (2018).

⁶ 18 CFR 16.26(b) (2018).

Questions concerning this notice should be directed to Alan Mitchnick, (202) 502-6074 or alan.mitchnick@ferc.gov.

Dated: March 1, 2019.
Kimberly D. Bose,
Secretary.

[FR Doc. 2019-04150 Filed 3-6-19; 8:45 am]

BILLING CODE 6717-01-P